DEPARTMENT OF THE TREASURY

Internal Revenue Service

26 CFR Part 25

[REG-163679-02]

RIN 1545-BB72

Qualified Interests

AGENCY: Internal Revenue Service (IRS), Treasury.

ACTION: Correction to notice of proposed rulemaking and notice of public hearing.

SUMMARY: This document contains a correction to a notice of proposed rulemaking that was published in the Federal Register on Monday, July 26, 2004 (69 FR 44476), relating to the gift tax special valuation rules and qualified interests.

FOR FURTHER INFORMATION CONTACT: Juli Ro Kim (202) 622-3090 (not a toll-free number).

SUPPLEMENTARY INFORMATION:

Background

The notice of proposed rulemaking (REG-163679-02), that is the subject of this correction is under section 2702 of the Internal Revenue Code.

Need for Correction

As published, the notice of proposed rulemaking (REG-163679-02), contains an error that may prove to be misleading and is in need of clarification.

Correction of Publication

Accordingly, the publication of the notice of proposed rulemaking and notice of public hearing (REG-163679-02), which was the subject of FR Doc. 04-16593, is corrected as follows:

On page 44476, column 2, in the preamble, under the caption DATES, line 2, the language “must be received by October 21, 2004.” is corrected to read “must be received by October 25, 2004.”

Guy R. Traynor,
Federal Register Liaison, Publication and Regulations Branch, Legal Processing Division, Associate Chief Counsel, (Procedures & Administration).

[FR Doc. 04-23748 Filed 10-22-04; 8:45 am]

BILLING CODE 4830-01-P